DEPARTMENT OF JUSTICE

[OMB 1121-NEW]

Agency Information Collection Activities; Proposed Collection Comments Requested; New Collection: Office of Justice Programs Territories Financial Support Center (OJP TFSC) Needs Assessment and Evaluation Package

AGENCY: Office of Justice Programs, Department of Justice.

ACTION: 60-Day notice.

SUMMARY: The Office of Justice Programs, U.S. Department of Justice, will be submitting the following information collection request to the Office of Management and Budget (OMB) for review and approval in accordance with the Paperwork Reduction Act of 1995. The proposed information collection is published to obtain comments from the public and affected agencies.

DATES: The purpose of this notice is to allow for an additional 60 days for public comment until December 12, 2022.

FOR FURTHER INFORMATION CONTACT: If you have comments, especially on the estimated public burden or associated response time, suggestions, or need a copy of the proposed information collection instrument with instructions or additional information, please contact Bethany Hemphill, Office of Justice Programs, U.S. Department of Justice, 810 7th Street NW, Washington, DC 20530. Written comments and/or suggestions can also be directed to the Office of Management and Budget, Officer of Information and Regulatory Affairs, Attention Department of Justice Desk Officer, Washington, DC 20503 or send to OIRA_submissions@omb.eop.gov.

SUPPLEMENTARY INFORMATION: This process is conducted in accordance with 5 CFR 1320.10. Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: New Information Collection.

2. The Title of the Form/Collection: OJP TFSC Needs Assessment and Evaluation Package.

3. The agency form number and agency component sponsoring the collection: NA. Office of Justice Programs, U.S. Department of Justice.

4. Affected public who will be asked or required to respond, as well as a brief abstract:

Primary: Territory agencies/organizations.

Abstract: The Office of Justice Programs Territories Financial Support Center (OJP TFSC) Needs Assessment and Evaluation Package is designed to identify the financial needs of territory grantees and obtain feedback on OJP's Territories Financial Support Center. Data collection items generally include ratings of various aspects of the training and technical assistance activities, ratings of presenters, open-ended questions about what was most helpful and what could be improved, and needs of grantees. The data will then be used to advise OJP and OJP TFSC on ways to improve the support that it provides to territory grantees.

5. An estimate of the total number of respondents and the amount of time estimated for an average respondent to respond: There are approximately 11,850 respondents who will require an average of 8 minutes (ranging from 2 to 45 minutes across all forms) to respond to a single form each year.

6. An estimate of the total public burden (in hours) associated with the collection: The total annual public burden hours for this information collection are estimated to be 404 hours per year.

If additional information is required contact: Robert Houser, Department Clearance Officer, Policy and Planning Staff, Justice Management Division, United States Department of Justice, Two Constitution Square, 145 N Street NE, 3E.206, Washington, DC 20530.

Dated: October 5, 2022.
Robert Houser,
Department Clearance Officer for PRA, Policy and Planning Staff, Office of the Chief Information Officer, U.S. Department of Justice.

[FR Doc. 2022-22064 Filed 10-7-22; 8:45 am]

BILLING CODE 4410-18-P